DEPARTMENT OF JUSTICE

Notice of Lodging of Proposed Modification To Consent Decree Under the Clean Water Act

On December 3, 2023, the Department of Justice lodged with the United States District Court for the Eastern District of Tennessee in the lawsuit entitled United States and the State of Tennessee v. The City of Chattanooga, Civil Action No. 1:12-cv-00245, a proposed modification to the existing Consent Decree.

The United States, on behalf of the U.S. Environmental Protection Agency (“EPA”), and the State of Tennessee filed this lawsuit on July 17, 2012, under the Clean Water Act and Tennessee State law alleging violations with respect to the City of Chattanooga's publicly owned treatment works. A Consent Decree resolving these claims was entered by the Court on April 24, 2014. The proposed modification to the Consent Decree extends certain deadlines to achieve compliance with the Consent Decree while adding significant remedial projects that the city must complete in the next five years. The cost of the additional required projects is estimated to be $185 million.

The publication of this notice opens a period for public comment on the proposed modification to the Consent Decree. Comments should be addressed to the Assistant Attorney General, Environment and Natural Resources Division, and should refer to United States and the State of Tennessee v. The City of Chattanooga, D.J. Ref. No. 90-5-1-1-10145. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $40.25 (25 cents per page reproduction cost), payable to the United States Treasury.

Lori Jonas,
Assistant Section Chief, Environmental Enforcement Section, Environment & Natural Resources Division.

[FR Doc. 2023-26889 Filed 12-6-23; 8:45 am]

BILLING CODE 4410-15-P